DEPARTMENT OF THE INTERIOR

Fish and Wildlife Service

Receipt of Application for Endangered Species Permit

AGENCY: Fish and Wildlife Service, Interior.

ACTION: Notice of receipt of application for endangered species permit.

SUMMARY: The following applicants have applied for permits to conduct certain activities with endangered species. This notice is provided pursuant to section 10(c) of the Endangered Species Act of 1973, as amended (16 U.S.C. 1531 et seq.).

DATES: Written data or comments on these applications must be received, at the address given below, by February 18, 2003.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist). Telephone: 404/679-4176; Facsimile: 404/679-7081.

FOR FURTHER INFORMATION CONTACT: Victoria Davis, Telephone: 404/679-4176; Facsimile: 404/679-7081.

SUPPLEMENTARY INFORMATION: If you wish to comment, you may submit comments by any one of several methods. You may mail comments to the Service's Regional Office (see ADDRESSES). You may also comment via the internet to victoria_davis@fws.gov. Please submit comments over the internet as an ASCII file avoiding the use of special characters and any form of encryption. Please also include your name and return address in your internet message. If you do not receive a confirmation from the Service that we have received your internet message, contact us directly at either telephone number listed above (see FURTHER INFORMATION). Finally, you may hand deliver comments to the Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

Applicant: Edwards-Pitman Environmental, Inc., Atlanta, Georgia, Florida, TE063179-0.

The applicant requests authorization to take (survey, capture, translocate, and release) the following mussels and fishes: Fat three-ridge mussel (Amblema neislerii), Chipola slabshell (Elliptio chipolaensis), purple bankclimber (Ellptoideus sloatianus), upland combshell (Epioblasma metastriata), southern acornshell (Epioblasma othcaloogensis), fine-lined pocketbook (Lampsilis altilis), shiny-rayed pocketbook (Lampsilis subangulata), Alabama moccasinshell (Medionidus acutissimus), Coosa moccasinshell (Medinidus acutissimus), Gulf moccasinshell (Medinidus penicillatus), Ochlockonee moccasinshell (Medionidus simpsonianus), Southern clubshell (Pleurobema decisum), Southern pigtoe (Pleurobema georgianum), Ovate clubshell (Pleurobema perovatum), oval pigtoe (Pleurobema pyriforme), triangular kidneyshell (Ptychobranchus greeni), short nose sturgeon (Acipenser brevirostrum), blue shiner (Cyprinella caerulea), Cherokee darter (Etheostoma scotti), Etowah darter (Ethostoma etowahae), Amber darter (Percina antesella), goldline darter (Percina aurolineata), Conasauga logperch (Percina jenkinsi), and snail darter (Percina tanasi). The proposed activities will take place throughout the state of Georgia.

Applicant: South Carolina Parks, Recreation and Tourism, Cheraw, South Carolina, Gary P. Haught, TE063183-0.

The applicant requests authorization to harass red-cockaded woodpeckers (Picoides borealis) while installing squirrel and snake excluder devices on active and non-active cluster trees with cavities. The proposed activities will take place in the Cheraw State Park, South Carolina.

Applicant: Trent Alan Farris, Foley, Alabama, TE064856-0.

The applicant requests authorization to take (survey, capture, mark, tag, and release) the following species: Alabama beach mouse (Peromyscus polionotus ammobates), Perdido Key beach mouse (Peromyscus polionotus trissyllepsis), Choctawhatchee beach mouse (Peromyscus polionotus allophrys), and Saint Andrew beach mouse (Peromyscus polionotus peninsularis). Take will occur while conducting presence and absence population surveys, studying population status and distributions, translocating individuals to augment populations, and radio tagging for scientific purposes. The proposed activities will take place in Alabama and Florida.

Applicant: Samuel Paul Atkinson; Shaw, McLeod, Belser, and Hurlbutt; Sumter, South Carolina, TE064882-0.

The applicant requests authorization to take (capture, band, release, monitor nests, and install artificial cavity inserts) red-cockaded woodpeckers (Picoides borealis) while conducting presence and absence surveys. The surveys will be conducted throughout the species historical range.

Dated: December 19, 2002.
J. Mitch King,
Acting Regional Director.

[FR Doc. 03-1064 Filed 1-16-03; 8:45 am]

BILLING CODE 4310-55-P